DEPARTMENT OF AGRICULTURE

Agricultural Marketing Service

[Doc. No. AMS-AMS-08-0083; TM-08-12]

Notice of Meeting of the National Organic Standards Board

AGENCY: Agricultural Marketing Service, USDA.

ACTION: Notice.

SUMMARY: In accordance with the Federal Advisory Committee Act, as amended, the Agricultural Marketing Service (AMS) is announcing a forthcoming meeting of the National Organic Standards Board (NOSB).

DATES: The meeting dates are Monday, November 17, 2008, 9 a.m. to 5 p.m.; Tuesday, November 18, 2008, 8 a.m. to 5 p.m.; and Wednesday, November 19, 2008, 8 a.m. to 5 p.m. Requests from individuals and organizations wishing to make oral presentations at the meeting are due by the close of business on November 3, 2008.

ADDRESSES: The meeting will take place at the Savoy Suites Hotel, 2505 Wisconsin Avenue, NW., Washington, DC 20007.

• Requests for copies of the NOSB meeting agenda may be sent to Ms. Valerie Frances, Executive Director, NOSB, USDA-AMS-TMP-NOP, 1400 Independence Ave., SW., Room 4008-So., Ag Stop 0268, Washington, DC 20250-0268. The NOSB meeting agenda and proposed recommendations may also be viewed at http://www.ams.usda.gov/nop.

• Comments on proposed NOSB recommendations may be submitted by November 3, 2008 in writing to Ms. Frances at either the postal address above or via the Internet at http://www.regulations.gov only. The comments should identify Docket No. AMS-AMS-08-0083. It is our intention to have all comments to this notice whether they are submitted by mail or the Internet available for viewing on the http://www.regulations.gov Web site.

• Requests to make an oral presentation at the meeting may also be sent by November 3, 2008 to Ms. Valerie Frances at the postal address above, by e-mail at valerie.frances@usda.gov, via facsimile at (202) 205-7808, or phone at (202) 720-3252.

FOR FURTHER INFORMATION CONTACT: Valerie Frances, Executive Director, NOSB, National Organic Program (NOP), (202) 720-3252, or visit the NOP Web site at: http://www.ams.usda.gov/nop.

SUPPLEMENTARY INFORMATION: Section 2119 (7 U.S.C. 6518) of the Organic Foods Production Act of 1990 (OFPA), as amended (7 U.S.C. 6501 et seq.) requires the establishment of the NOSB. The purpose of the NOSB is to make recommendations about whether a substance should be allowed or prohibited in organic production or handling, to assist in the development of standards for substances to be used in organic production, and to advise the Secretary on other aspects of the implementation of the OFPA. The NOSB met for the first time in Washington, DC, in March 1992, and currently has six subcommittees working on various aspects of the organic program. The committees are: Compliance, Accreditation, and Certification; Crops; Handling; Livestock; Materials; and Policy Development.

In August of 1994, the NOSB provided its initial recommendations for the NOP to the Secretary of Agriculture. Since that time, the NOSB has submitted 158 addenda to its recommendations and reviewed more than 333 substances for inclusion on the National List of Allowed and Prohibited Substances. The Department of Agriculture (USDA) published its final National Organic Program regulation in the Federal Register on December 21, 2000 (65 FR 80548). The rule became effective April 21, 2001.

In addition, the OFPA authorizes the National List of Allowed and Prohibited Substances and provides that no allowed or prohibited substance would remain on the National List for a period exceeding 5 years unless the exemption or prohibition is reviewed and recommended for renewal by the NOSB and adopted by the Secretary of Agriculture. This expiration is commonly referred to as sunset of the National List. The National List appears at 7 CFR Part 205, Subpart G.

The principal purposes of the NOSB meeting are to provide an opportunity for the NOSB to receive an update from the USDA/NOP and hear progress reports from NOSB committees regarding work plan items and proposed action items. The last NOSB meeting was held on May 20-22, 2008, in Baltimore, MD.

At its last meeting, the Board recommended the addition of 6 materials with one on the National List § 205.601 for use in crops, with one on § 205.603 for use in livestock, and with four on § 205.606 for use in handling. The Board recommended a 2-year extension of the expiration date to October 21, 2010, on the following three substances: DL-Methionine, DL-Methionine-Hydroxy Analog; and DL-Methionine-Hydroxy Analog Calcium—for use only in organic poultry production on § 205.603.

In addition, the Board completed the sunset review process for 13 materials for use in crops and handling which are due to expire on November 3, 2008, and November 4, 2008. Of these 13 materials, there are 11 substances for use in crops and handling placed on the National List on November 3, 2003, and are scheduled to expire on November 3, 2008. Four substances for use in handling were placed on the National List on November 4, 2003, and are scheduled to expire on November 4, 2008. The Board recommended the renewal of all 13 of the exemptions and prohibitions on the National List (along with any restrictive annotations).

At this meeting, the Policy Development Committee will present recommendations regarding revisions to the NOSB Policy and Procedures Manual and the Guide for new NOSB members as well as discuss their on-going collaboration with the NOP to review the NOP responses to prior NOSB recommendations.

The Policy Development and the Materials Committees will present their joint recommendation on the procedures for assessing the need for and requesting third party technical reviews of materials petitioned for inclusion on or prohibition from the National List, or for materials which are due to expire under the sunset review process.

The Materials Committee will present its recommendation to remove materials tabled by the Board since 1992 from the table, allowing them to be eligible for possible reconsideration for inclusion on or prohibition from the National List.

The Compliance, Accreditation, and Certification Committee will present their recommendations for use as guidance by accredited certifying agents on the certification of operations with multiple production units, sites, and facilities and for the labeling of products certified as 100 percent organic.

The Compliance, Accreditation, and Certification and the Crops Committees will jointly present their recommendation offering guidance for accredited certifying agents regarding annual commercial availability determinations for the sourcing of organic seed by farmers under § 205.204.

The Crops Committee will present recommendations on the materials: Tetracycline (Oxytetracycline hydrochloride), Sorbitol octanoate, Pelargonic acid, and Ammonium salts of fatty acids petitioned for use on § 205.601.

The Livestock Committee will present recommendations on the use of fish feed and open net pens in regards to the development of organic aquaculture standards for finfish, and will present recommendations in regards to the development of organic aquaculture standards for bivalves.

The Handling Committee will present their recommendations on the materials: Sodium chlorite, acidified, Calcium, derived from seaweed, Propionic acid, and Ethylene—for use in pears, petitioned for inclusion in § 205.605 for use in organic products. The Committee will present their recommendations on the materials: Black Pepper Extract, Buck Hull Powder, Dried Orange Pulp, Chlorella algae, Dumontiacae algae, petitioned for inclusion in § 205.606 for use in organic products depending on final commercial availability determinations performed by accredited certifying agents. The committee will also present their recommendation in regards to the development of organic standards for pet food.

The meeting is open to the public. The NOSB has scheduled time for public input for Monday, November 17, 2008, from 10:45 a.m. to 5 p.m. and Tuesday, November 18, 2008, from 3:15 p.m. to 5 p.m. Individuals and organizations wishing to make oral presentations at the meeting may forward their requests by mail, facsimile, e-mail, or phone to Valerie Frances as listed in ADDRESSES above. Individuals or organizations will be given approximately 5 minutes to present their views. All persons making oral presentations are requested to provide their comments in writing. Written submissions may contain information other than that presented at the oral presentation. Anyone may submit written comments at the meeting. Persons submitting written comments are asked to provide 30 copies.

Interested persons may visit the NOSB portion of the NOP Web site at http://www.ams.usda.gov/nop to view available meeting documents prior to the meeting, or visit http://www.regulations.gov to submit and view comments as provided for in ADDRESSES above. Documents presented at the meeting will be posted for review on the NOP Web site approximately 6 weeks following the meeting.

Dated: September 17, 2008.
Lloyd C. Day,
Administrator, Agricultural Marketing Service.

[FR Doc. E8-22149 Filed 9-22-08; 8:45 am]

BILLING CODE 3410-02-P